DEPARTMENT OF TRANSPORTATION

Federal Aviation Administration

Notice of Document Availability; Draft Supplemental Environmental Impact Statement, Cal Black Memorial Airport, Halls Crossing, Utah

AGENCY: Federal Aviation Administration, DOT.

ACTION: Notice.

SUMMARY: The Federal Aviation Administration has released, for public review and comment, the Draft Supplemental Environmental Impact Statement (DSEIS) to address issues arising from the 1993 10th Circuit U.S. Court of Appeals Decision concerning the closure of Halls Crossing Airport and the development and operation of Cal Black Memorial Airport, Halls Crossing, Utah. The DSEIS identifies the noise impacts associated with operation of Cal Black Memorial Airport, the probable impacts if Halls Crossing Airport had not been closed, and includes a survey of visitors to Glen Canyon National Recreation Area and their reaction to aircraft overflight noise.

DATE AND ADDRESS FOR COMMENTS: Comments concerning the DSEIS may be submitted by March 30, 2001, to Mr. Dennis Ossenkop, ANM-611, Federal Aviation Administration, Northwest Mountain Region, Airports Division, 1601 Lind Avenue, SW., Renton, WA 98055-4056.

A public hearing may be requested by contacting Mr. Dennis Ossenkop at the address above. Persons desiring to review the DSEIS may do so during normal business hours at the following locations:

Federal Aviation Administration, Airports Division Office, Suite 315, 1601 Lind Avenue, SW., Renton, Washington

Federal Aviation Administration, Airports District Office, Suite 224, 26805 East 68th Ave, Denver, Colorado

San Juan County Courthouse, County Executive Office, 117 S. Main, Monticello, Utah

If you desire additional information related to this project, please contact Mr. Dennis Ossenkop at the above address.

Issued in Renton, Washington on January 29, 2001.
Lowell H. Johnson,
Manager, Airports Division, Northwest Mountain Region.

[FR Doc. 01-3106 Filed 2-6-01; 8:45 am]

BILLING CODE 4910-13-M